DEPARTMENT OF ENERGY

Federal Energy Regulatory Commission

Notice of Application Tendered for Filing With the Commission, Soliciting Additional Study Requests, and Establishing Procedures for Relicensing and a Deadline for Submission of Final Amendments

October 8, 2002.

Take notice that the following hydroelectric application has been filed with the Commission and is available for public inspection.

a. Type of Application: New Minor License.

b. Project No.: 7725-005.

c. Date Filed: September 27, 2002.

d. Applicant: Barton Village Inc.

e. Name of Project: Barton Village Hydroelectric Project.

f. Location: On the Clyde River in the Town of Charleston, Vermont.

g. Filed Pursuant to: Federal Power Act 16 U.S.C. §§ 791 (a)-825(r).

h. Applicant Contact: Denis H. Poirier, Village Supervisor, Barton Village Inc., 17 Village Square, PO Box 519, Barton, Vermont 05822. (802) 525-4747.

i. FERC Contact: Kenneth Hogan at (202) 502-8434 or kenneth.hogan@ferc.gov.

j. Cooperating agencies: We are asking Federal, state local and tribal agencies with jurisdiction and/or special expertise with respect to environmental issues to cooperate with us in the preperation of the environmental document. Agencies who would like to request cooperating status should follow instructions for filing comments described in item k below.

k. Deadline for filing additional study requests: December 9, 2002.

All documents (original and eight copies) should be filed with: Ms. Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. See 18 CFR 385.2001(a)(1)(iii) and the instructions on the Commission's Web site (http://www.ferc.gov) under the “e-Filing” link.

l. This application is not ready for environmental analysis at this time.

m. The existing Barton Village Hydroelectric Project consists of: (1) A 77-foot-long, 24-foot-high masonry and concrete gravity dam; (2) 1.5 foot high flashboards extending 57 feet across a concrete spillway; (3) a 187-acre impoundment at elevation 1,140.9 feet mean sea level (msl); (4) a 665-foot-long, 7-foot-diameter steel penstock; (5) two 105-foot-long, 5.8-foot-diameter steel penstocks leading to: (6) a powerhouse with two units having a total installed capacity of 1,4 MW; and (7) other appurtenant facilities.

n. A copy of the application is on file with the Commission and is available for public inspection. This filing may also be viewed on the web at http://www.ferc.gov using the “FERRIS” link—select “Docket #” and follow the instructions (call 202-208-2222 for assistance). A copy is also available for inspection and reproduction at the address in item h above.

o. With this notice, we are initiating consultation with the Vermont State Historic Preservation Officer (SHPO), as required by § 106, National Historic Preservation Act, and the regulations of the Advisory Council on Historic Preservation, 36 CFR 800.4.

p. Procedural schedule and final amendments: The application will be processed according to the following milestones, some of which may be combined to expedite processing:

Issue Deficiency Letter, January, 2003.

Notice of application accepted for filing, April, 2003.

Issuance of NEPA Scoping Document 1, for comments May, 2003.

Request for Additional Information, July, 2003.

Issuance of NEPA Scoping Document 2, August, 2003.

Notice of application is ready for environmental analysis, August, 2003.

Notice of the availability of the draft NEPA document, February, 2004.

Notice of the availability of the final NEPA document, May, 2004.

Order issuing the Commission's decision on the application, May, 2004.

Final amendments to the application must be filed with the Commission no later than 30 days from the issuance date of the notice of ready for environmental analysis.

Linwood A. Watson, Jr.,
Deputy Secretary.

[FR Doc. 02-26083 Filed 10-11-02; 8:45 am]

BILLING CODE 6717-01-P